DEPARTMENT OF DEFENSE

Office of the Secretary

Notice of Record of Decision for Site Preparation Activities at the Missile Defense System (MDS) Test Bed at Fort Greely, AK

AGENCY: Ballistic Missile Defense Organization.

ACTION: Record of decision.

SUMMARY: The Ballistic Missile Defense Organization is issuing this Record of Decision (ROD) to conduct initial site preparation activities for the Fort Greely, Alaska portion of a Missile Defense System (MDS) Test Bed. Fort Greely is a potential deployment location in Alaska for Ground-Based Interceptor (GBI) silos, Battle Management Command and Control (BMC2) facilities, and other support facilities for the Ground Based Midcourse Element (GBME), formerly called the National Missile Defense (NMD) system, of the MDS. This is a ROD to implement limited site preparation activities that could support construction of the MDS Test Bed facilities at Fort Greely. The Test Bed is a subset of the preferred alternative defined in the NMD Deployment Final Environmental Impact Statement (EIS). The environmental impacts of the MDS Test Bed site preparation work will be of the same type, but reduced in scope, as the impacts of the preferred alternative in the NMD EIS.

This decision is based on the determination of National Command Authorities that there is a ballistic missile threat to the United States, and that developing an effective Missile Defense System is dependent upon operationally realistic testing of the MDS elements. Although the decision on GBME deployment has not been made and construction of MDS test facilities is dependent on Congressional appropriations and also has not been made, the Department of Defense has determined that it is prudent to proceed with site preparation activities for MDS test bed facilities at Fort Greely to preserve the near term option to develop an MDS test bed. These site preparation activities would support proposed test bed facilities that would consist of a small number of the GBI silos, BMC2 and other support facilities that were analyzed in the EIS. Specifically, the site preparation work planned includes installing and developing two water wells; clearing trees and debris; preparing sites for test bed facilities including a single missile field; and installation of the Main Access Road. The site preparation includes cut, fill, grading and earthwork operations to the top of sub-base for all vehicle traffic areas and top of finish grade for all other areas excluding the building footprints, which will be graded to drain. The test bed would allow BMDO to prove out the design and siting of a GBI field that would be required to fire in a salvo without having the GBIs interfere with each other, to test the communication between all component parts, and to test for fuels degradation in the arctic environment, as well as to develop and rehearse maintenance and upkeep processes and procedures. There is no present intent to test fire interceptor missiles from Fort Greely. Any potential future decision to test fire at Fort Greely would only occur after a thorough environmental and safety analysis was performed. In the event of a missile attack on the United States, the test bed at Fort Greely could potentially be used for ballistic missile defense. Initiation of the site preparation activities is dependent on obtaining required permits and implementation of the attached Mitigation Monitoring Plan. Site preparation activities are not of sufficient magnitude to limit any later selection of alternatives analyzed in the EIS. Other factors considered in reaching this decision include cost and technical maturity of the GBME of the MDS.

FOR FURTHER INFORMATION CONTACT: For further information on the NMD (now GBME) Deployment Final EIS or Record of Decision, contact Ms. Julia Hudson-Elliott, U.S. Army Space and Missile Defense Command, Attn: SMDC-EN-V, P.O. Box 1500, Huntsville, Alabama 35807-3801, (256) 955-4822. Public reading copies of the Final EIS and the Record of Decision are available for review at the public libraries within the communities near proposed activities and at the BMDO Internet site at www.acq.osd.mil/bmdo/bmdolink/html/nmd.html.

SUPPLEMENTARY INFORMATION:

Background

This Record of Decision has been prepared pursuant to the Council on Environmental Quality regulations implementing the National Environmental Policy Act (NEPA) (40 CFR Parts 1500-1508), Department of Defense (DoD) Instruction 4715.9, and the applicable service environmental regulations that implement these laws and regulations. The U.S. Air Force, U.S. Army, U.S. Navy, and the Federal Aviation Administration participated as cooperating agencies in preparing the NMD Deployment EIS. The Proposed Action described in the EIS is to deploy a National Missile Defense System at several locations. The Fort Greely portion of the MDS Test Bed is essentially a down-scoped version of the preferred alternative for GBI analyzed in the NMD EIS. Alternative site locations for identified GBME, formerly called NMD, components (i.e., GBI, BMC2, and X-Band Radar (XBR)) were considered.

NEPA Process

The Notice of Intent to prepare an EIS for the deployment of the NMD program was published in the Federal Register on November 17, 1998, initiating the public scoping process. Public scoping meetings were held in December 1998 in communities perceived to be affected by the NMD. Notice of the availability of the NMD Deployment Draft EIS was published in the Federal Register on October 1, 1999. This initiated a period of public review and comment on the Draft EIS. Seven public hearings were held from October 26 through November 9, 1999, in the same locations as the public scoping meetings. Subsequently, a supplement to the Draft EIS was prepared to evaluate the potential impacts of upgrading existing Early Warning Radars for use by the NMD. A public hearing was held in Bourne, Massachusetts, on the Supplement. Comments on the Draft EIS and Supplement to the Draft EIS were considered in the preparation of the Final EIS. The Notice of Availability for the Final EIS was published in the Federal Register on December 15, 2000, initiating an additional 30-day review period.

Comments received on the Final EIS have been considered in the decision process, culminating in this Record of Decision.

Alternatives Considered

No-Action Alternative

As required by the CEQ regulations, the EIS evaluated a No-action Alternative. Under this alternative, the NMD deployment decision would be deferred, while development of the NMD, technologies and architectures would continue. Non-NMD activities currently occurring or planned at potential deployment sites would continue.

Proposed Action

The proposed action analyzed in the EIS was to deploy a fixed, land-based, non-nuclear missile defense system with a land and space-based detection system capable of responding to limited strategic ballistic missile threats to the United States. The NMD system consisted of five elements: Battle Management, Command, Control, and Communications (BMC3), which includes the BMC2, the communication lines, and the In-Flight Interceptor Communications System (IFICS) Data Terminals (IDTs) as subelements; GBI; XBR; Upgraded EWR (UEWR); and a space-based detection system. The initial space-based detection capability would be the existing Defense Support Program early-warning satellites to be replaced by Space-Based Infrared System (SBIRS) satellites currently being developed by the Air Force. Since the NMD EIS was completed, the Ballistic Missile Defense architecture has evolved into a multi-layered approach that does not distinguish between national and theater threats. The GBME is the successor to the NMD system in the revised Ballistic Missile Defense architecture. The GBME consists of the same elements, at the same preferred locations, as the NMD system analyzed in the NMD EIS. The Fort Greely portion of the MDS Test Bed consists of a down-scoped version of the preferred alternative for GBI analyzed in the NMD EIS. By locating MDS Test Bed components at potential future GBME deployment locations, the Ballistic Missile Defense Organization can conduct operationally realistic testing of the GBME components being developed.

Decision

The Ballistic Missile Defense Organization will proceed with initial site preparation activities at Fort Greely, Alaska that could support the construction of the MDS Test Bed (GBI silos, BMC2, and other support) facilities. Initial site preparation activities will include site layout, clearing of vegetation, initial earthwork related to site and road grading, and preparation for facility construction activities. Specific planned actions include installing and developing two water wells; site preparation work for test bed buildings, the main access road up to the Alaska Oil Pipeline crossing, and a single missile field. This decision does not include construction and operation of MDS Test Bed facilities at Fort Greely. Any decisions to construct and operate MDS Test Bed facilities will require preparation of a subsequent decision document or documents.

Environmental Impacts of Alternatives

The EIS analyzed the environment in terms of 15 resource areas: air quality, airspace, biological resources, cultural resources, geology and soils, hazardous materials and wastes, health and safety, land use and aesthetics, noise, socioeconomics, transportation, utilities, water resources, environmental justice, and subsistence. Each resource area with a foreseeable impact at the respective alternative sites was addressed in the EIS. The analysis in the EIS was commensurate with the importance of the potential impacts. Where it was determined through initial evaluation that no impacts would occur to resources at certain sites, these resources were not analyzed in the EIS. The potential for cumulative impacts was also evaluated in the EIS.

Since this ROD affects only the EIS preferred alternative for siting of the GBI, BMC2 and test support facilities at Fort Greely, only the environmental effects relating to Fort Greely are described for the no action alternative and initial site preparation activities.

No-Action Alternative—Environmental Impacts

This section discusses the environmental effects that would result from a decision not to initiate initial site preparation activities. Under this No-action Alternative, only the locations and environmental resources discussed below were anticipated to have environmental impacts from continued ongoing operations.

Fort Greely, Alaska. There would be impacts to geology and soils, socioeconomics, and water resources from continued activities at Fort Greely. These impacts could include some soil damage from vehicles, weapons, and fires. Some soil erosion with net soil loss and water quality impacts would occur near training activities. Localized long-term damage to permafrost could occur as a result of ground training and fire damage from training. The Army has developed mitigation measures to minimize these impacts. The loss of jobs associated with realignment of Fort Greely would likely result in a decline in local population and a commensurate fiscal loss for the community. Training maneuvers, if conducted repeatedly in the same area, could result in cumulative impacts to water resources. The Army has implemented measures to minimize impacts to water resources.

Initial Site Preparation—Environmental Impacts

This section discusses the potential environmental effects of the initial site preparation activities.

Fort Greely, Alaska. This was the preferred alternative for the GBI element in the EIS and is the selected site for initial site preparation activities for GBME test bed facilities. The site preparation activities would involve the same type of impacts as those assessed in the EIS, but at a reduced scope, due to the reduced size of the Test Bed as compared with the deployment site analyzed. It is anticipated that initial site preparation activities for GBME test bed facilities at Fort Greely could result in a minor short-term increase in erosion and sediment in surface water. Appropriate permits and storm water plans would be implemented to minimize impacts to soils and water resources. Initial site preparation activities would also provide an economic benefit to the surrounding regions, partially offsetting the loss of jobs at the base as a result of its realignment.

Alternatives Not Selected—Environmental Impacts

Several alternative locations in the NMD Deployment Final EIS are not selected at this time. A discussion of the environmental impacts at those locations would be included in a future Record of Decision related to MDS Test Bed construction or a GBME deployment decision.

Mitigation Measures and Monitoring

The mitigation measures specified for the site selected for initial site preparation activities at Fort Greely, Alaska as described above and contained in the attached Mitigation Monitoring Plan will be implemented and all the required permits will be obtained as part of this decision. The Mitigation Monitoring Plan has been developed to assist in tracking and implementing these mitigation measures. With the implementation of the mitigation measures, all practicable means have been adopted to avoid or minimize environmental harm for initial site preparation activities at Fort Greely.

Environmentally Preferred Alternative

The environmentally preferred alternative is the No-action Alternative (no site preparation activities). Continuation of current site operations at the location would result in few additional environmental impacts.

Conclusion

In accordance with NEPA, the Department of Defense has considered the information contained within the NMD Deployment Final EIS in deciding to initiate site preparation activities at Fort Greely, Alaska. The site preparation activities are limited to those that would support the MDS Test Bed facilities (a limited number of GBI silos, BMC2 facilities, and other support facilities) at Fort Greely, Alaska, if they were approved for construction at a later date.

Dated: August 10, 2001.
L.M. Bynum,
Alternate OSD Federal Register Liaison Officer, Department of Defense.

[FR Doc. 01-20575 Filed 8-10-01; 3:54 pm]

BILLING CODE 5001-08-P